INTERNATIONAL TRADE COMMISSION

[Investigation No. 337-TA-1040]

Certain Basketball Backboard Components and Products Containing the Same; Commission Determination Not To Review an Initial Determination Terminating the Investigation in Its Entirety Based on a Settlement Agreement; Termination of Investigation

AGENCY: U.S. International Trade Commission.

ACTION: Notice.

SUMMARY: Notice is hereby given that the U.S. International Trade Commission has determined not to review an initial determination (“ID”) (Order No. 15) of the presiding administrative law judge (“ALJ”) terminating the investigation in its entirety based on a settlement agreement. The investigation is terminated.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation under section 337 of the Tariff Act of 1930, as amended, 19 U.S.C. 1337 (“Section 337”), on February 7, 2017, based on a complaint filed by Lifetime Products, Inc. of Clearfield, Utah (“Lifetime”). 82 FR 9595-96 (Feb. 7, 2017). The complaint, as amended, alleges a violation of Section 337 in the importation into the United States, the sale for importation, or the sale within the United States after importation of certain basketball backboard components and products containing the same by reason of infringement of certain claims of U.S. Patent Nos. 7,749,111; 8,845,463; and 8,852,034. The named respondents are Russell Brands, LLC d/b/a Spalding of Bowling Green, KY (“Russell Brands”) and Reliable Sports Equipment (Wujiang) Co. Ltd. of Wujiang City, Jiangsu, China (“Reliable Sports”). 82 FR at 9595-96. The Commission's Office of Unfair Import Investigations was not named as a party. Id. at 9596.

On August 24, 2017, Complainant Lifetime and Respondents Russell Brands and Reliable Sports filed a joint motion to terminate the investigation on the basis of a settlement agreement.

On September 6, 2017, the ALJ issued an ID (Order No. 15) granting the joint motion and terminating the investigation in its entirety based on the settlement agreement. The ALJ found that termination of this investigation is in the public interest because it will not adversely affect the public health and welfare, competitive conditions in the United States economy, the production of like or directly competitive articles in the United States, or United States consumers. Order No. 15 at 2. No party petitioned for review of the subject ID, and the Commission has determined not to review it.

The authority for the Commission's determination is contained in section 337 of the Tariff Act of 1930, as amended (19 U.S.C. 1337), and in Part 210 of the Commission's Rules of Practice and Procedure (19 CFR part 210).

By order of the Commission.
Issued: September 21, 2017.
Lisa R. Barton,
Secretary to the Commission.

[FR Doc. 2017-20644 Filed 9-26-17; 8:45 am]

BILLING CODE 7020-02-P